DEPARTMENT OF HEALTH AND HUMAN SERVICES

Centers for Medicare & Medicaid Services

42 CFR Parts 412, 413, and 476

[CMS-1518-CN2]

RIN 0938-AQ24

Medicare Program; Proposed Changes to the Hospital Inpatient Prospective Payment Systems for Acute Care Hospitals and the Long-Term Care Hospital Prospective Payment System and Fiscal Year 2012 Rates; Corrections

AGENCY: Centers for Medicare & Medicaid Services (CMS), HHS.

ACTION: Correction of proposed rule.

SUMMARY: This document corrects technical errors that occurred in Tables 2 and 4J, that were referenced in the proposed rule entitled “Medicare Program; Proposed Changes to the Hospital Inpatient Prospective Payment Systems for Acute Care Hospitals and the Long-Term Care Hospital Prospective Payment System and Fiscal Year 2012 Rates” which appeared in the May 5, 2011 Federal Register.

FOR FURTHER INFORMATION CONTACT: Brian Slater, (410) 786-5229.

SUPPLEMENTARY INFORMATION:

I. Background

Tables 2 and 4J, referenced in FR Doc. 2011-9644 of May 5, 2011 (76 FR 25788), and available through the Internet on the CMS Web site (see 76 FR 26043 and 26044 for an explanation of publishing such Tables on the Internet), reflect an error in the calculation of the outmigration adjustment. (We refer readers to (76 FR 25887 and 25888) for an explanation of such adjustment.) This error affects proposed Table 4J, which lists hospitals located in qualifying outmigration adjustment counties. Table 4J also lists the proposed adjustments calculated for qualifying hospitals. To correct the error, we have re-evaluated which counties are eligible for the outmigration adjustment in FY 2012. There are an additional 104 providers (in 39 counties) eligible for the adjustment, 66 of which are also eligible for reclassification for FY 2012. We sent a Joint Signature Memorandum on July 1, 2011 to fiscal intermediaries informing them of this change, along with a letter to be forwarded to providers with further instructions for those possibly affected by this change. The Joint Signature Memorandum and the letter to providers provides further instructions on how providers may revise certain reclassification decisions, or receive the outmigration adjustment rather than a section 1886(d)(8)(B) redesignation. To access the Memorandum and letter and to review such procedures, we refer readers to our Web site http:/www.cms.gov/AcuteInpatientPPS/IPPS2012/list.asp.

II. Summary of Errors and Corrections Posted on the CMS Web Site

On page 26043, we list Table 2 and Table 4J as the tables that will be available only through the Internet. The version of Table 4J that was posted via the Internet on the CMS Web site at the time the proposed rule was filed for public inspection at the Office of the Federal Register inadvertently omitted the outmigration adjustment for 104 providers. Therefore, we have corrected these errors and will post corrections to Table 2 and 4J on the CMS Web site at http://www.cms.hhs.gov/AcuteInpatientPPS/01_overview.asp)

The corrections to Table 4J include only the newly eligible hospitals and their corresponding outmigration adjustments. The corrections to Table 2 include only the hospitals that are newly eligible for an outmigration adjustment and their corresponding corrected FY 2012 proposed wage indices.

(Catalog of Federal Domestic Assistance Program No. 93.773, Medicare—Hospital Insurance; and Program No. 93.774, Medicare—Supplementary Medical Insurance Program)

Dated: July 7, 2011.
Dawn L. Smalls,
Executive Secretary to the Department, Department of Health and Human Services.

[FR Doc. 2011-17672 Filed 7-11-11; 11:15 am]

BILLING CODE 4120-01-P